FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202) 523-5793 or tradeanalysis@fmc.gov.

Agreement No.: 011830-012.

Title: Indamex Cross Space Charter, Sailing and Cooperative Working Agreement.

Parties: CMA CGM S.A.; Hapag-Lloyd AG; Nippon Yusen Kaisha; and Orient Overseas Container Line Limited.

Filing Party: Joshua Stein; Cozen O'Connor; 1200 Nineteenth Street NW; Washington, DC 20036.

Synopsis: The Amendment revises the Agreement to provide for the transition that will occur following the combination of the container liner operations of Kawasaki Kisen Kaisha, Ltd.; Mitsui O.S.K. Lines, Ltd.; and Nippon Yusen Kaisha into a new company known as Ocean Network Express Pte. Ltd. effective April 1, 2018. Ocean Network Express Pte. Ltd. is added as a party.

Agreement No.: 012153-001.

Title: NYK/HLAG Vessel Sharing Agreement.

Parties: Nippon Yusen Kaisha and Hapag-Lloyd AG.

Filing Party: Joshua Stein; Cozen O'Connor; 1200 Nineteenth Street NW; Washington, DC 20036.

Synopsis: The Amendment revises the Agreement to provide for the transition that will occur following the combination of the container liner operations of Kawasaki Kisen Kaisha, Ltd.; Mitsui O.S.K. Lines, Ltd.; and Nippon Yusen Kaisha into a new company known as Ocean Network Express Pte. Ltd. effective April 1, 2018. Ocean Network Express Pte. Ltd. is added as a party.

Agreement No.: 012462-001.

Title: THE Alliance/CMA CGM Space Charter Agreement.

Parties: Hapag Lloyd; Kawasaki Kisen Kaisha, Ltd.; Mitsui O.S.K. Lines, Ltd.; Nippon Yusen Kaisha; Yang Ming Marine Transport Corp.; and CMA CGM S.A.

Filing Party: Joshua Stein; Cozen O'Connor; 1200 19th Street NW; Washington, DC 20036.

Synopsis: The Amendment revises the Agreement to provide for the transition that will occur following the combination of the container liner operations of Kawasaki Kisen Kaisha, Ltd.; Mitsui O.S.K. Lines, Ltd.; and Nippon Yusen Kaisha into a new company known as Ocean Network Express Pte. Ltd. effective April 1, 2018. Ocean Network Express Pte. Ltd. is added as a party. In addition, the Amendment adds Yang Ming (UK) Ltd. as a party (operating as a single party with Yang Ming Marine Transport Corp.).

Agreement No.: 012472-001.

Title: Yang Ming/COSCO Shipping Slot Exchange Agreement.

Parties: COSCO Shipping Lines Co., Ltd. and Yang Ming Marine Transport Corporation.

Filing Party: Robert Magovern; Cozen O'Connor; 1200 19th Street NW; Washington, DC 20036.

Synopsis: The amendment revises the Agreement to clarify that the space provided to Yang Ming will be on COSCO Shipping's AAC service, instead of on the CEN service effective April 1, 2018. The amendment also adds Yang Ming (UK) Ltd. as a party (operating as a single party with Yang Ming Marine Transport Corp.)

Dated: March 5, 2018.
Rachel E. Dickon,
Secretary.

[FR Doc. 2018-04697 Filed 3-8-18; 8:45 am]

BILLING CODE P